DEPARTMENT OF COMMERCE

National Oceanic and Atmospheric Administration

[I.D. 021605B]

Fisheries of the Caribbean, Gulf of Mexico, and South Atlantic; Snapper-Grouper Fishery off the Southern Atlantic States and Reef Fish Fishery in the Gulf of Mexico

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Neil Allen on behalf of The Georgia Aquarium. If granted, the EFP would authorize the applicant, with certain conditions, to collect limited numbers of groupers, snappers, squirrelfish, sea basses, jacks, spadefish, bluefish, grunts, porgies, surgeonfish, and triggerfish. Specimens would be collected primarily from Federal waters off the coast of Georgia but may also be collected from Federal waters off the coasts of South Carolina, Florida, Alabama, Louisiana, Mississippi, and Texas during 2005 and 2006, and displayed at The Georgia Aquarium, located in Atlanta, Georgia.

DATES: Comments must be received no later than 5 p.m., eastern standard time, on March 11, 2005.

ADDRESSES: Comments on the application may be sent via fax to 727-570-5583 or mailed to: Julie Weeder, Southeast Regional Office, NMFS, 9721 Executive Center Drive N., St. Petersburg, FL 33702. Comments may be submitted by e-mail. The mailbox address for providing e-mail comments is grouper.aquarium@noaa.gov. Include in the subject line of the e-mail document the following text: Comment on Georgia Aquarium EFP Application. The application and related documents are available for review upon written request to the address above or the e-mail address below.

FOR FURTHER INFORMATION CONTACT: Julie Weeder, 727-570-5305; fax 727-570-5583; e-mail: julie.weeder@noaa.gov.

SUPPLEMENTARY INFORMATION: The EFP is requested under the authority of the Magnuson-Stevens Fishery Conservation and Management Act (16 U.S.C. 1801 et seq.), and regulations at 50 CFR 600.745(b) concerning exempted fishing.

According to the applicant, The Georgia Aquarium is a public, non-profit institution currently under construction in Atlanta, Georgia. Its mission is to provide entertainment and education and support conservation through aquatic exhibits displaying animals from around the world. The aquarium is scheduled to open in late 2005.

The proposed collection for public display involves activities otherwise prohibited by regulations implementing the Fishery Management Plans (FMP) for the Snapper-Grouper Fisheries of the South Atlantic Region, Reef Fishes of the Gulf of Mexico, or Coastal Migratory Pelagics Fisheries of the South Atlantic Region and the Gulf of Mexico Region.

The applicant requires authorization to harvest and possess the following numbers of fishes: Six goliath grouper, five rock sea bass, five black sea bass, 10 gag (grouper), 10 scamp (grouper), 50 red snapper, 50 vermilion snapper, 50 squirrelfish, 100 yellow jack, 100 crevalle jack, 50 bar jack, 50 greater amberjack, 500 Atlantic spadefish, 50 bluefish, 100 sheepshead seabream, 100 tomtate grunt, 250 french grunt, 50 doctorfish, and 20 grey triggerfish. Specimens would be collected primarily from Federal waters off the coast of Georgia but may also be collected from Federal waters off the coasts of South Carolina, Florida, Alabama, Louisiana, Mississippi, and Texas during 2005 and 2006.

Fishes would be captured using barrier and hand nets in conjunction with SCUBA, hook and line, and traps. The barrier net would be set up underwater to provide a barrier to a school of fish. The fish would be herded into the barrier net and then hand netted. The net would be set for approximately one hour at a time and monitored by divers using SCUBA at all times. The net is 50 feet long and five feet deep with one inch monofilament mesh. Hook and line would be employed at depths less than 100 feet to capture bottom-dwelling fish, and in the water column for other species. Methods would be identical to that used by charter fishing boats. The fish traps are made from 1.5 inch wire mesh and are approximately three feet long, three feet wide and two feet high. The entrance to the traps is a vertical slit two inches wide and 24 inches long. Ten traps would be deployed for up to 10 fishing periods of 12 hours each.

NMFS finds that this application warrants further consideration. Based on a preliminary review, NMFS intends to issue an EFP. Possible conditions the agency may impose on this permit, if it is indeed granted, include but are not limited to: Reduction in the number of fish to be collected; restrictions on the placement of traps; restrictions on the size of fish to be collected; prohibition of the harvest of any fish with visible external tags; and specification of locations, dates and/or seasons allowed for collection of particular fish species. A final decision on issuance of the EFP will depend on a NMFS review of public comments received on the application, consultations with the affected states, the Gulf of Mexico Fishery Management Council, the South Atlantic Fishery Management Council, and the U.S. Coast Guard, and a determination that it is consistent with all applicable laws. The applicant requests a 12-month effective period for the EFP.

Dated: February 17, 2005.
Alan D. Risenhoover,
Acting Director, Office of Sustainable Fisheries, National Marine Fisheries Service.

[FR Doc. E5-743 Filed 2-23-05; 8:45 am]

BILLING CODE 3510-22-S